DEPARTMENT OF THE INTERIOR

Fish and Wildlife Service

50 CFR Part 17

Endangered and Threatened Wildlife and Plants: Announcement of Public Informational Meetings and Public Hearings for the Proposal to Reclassify and Remove the Gray Wolf From the List of Endangered and Threatened Species and To Establish Special Regulations for Threatened Gray Wolves

AGENCY: Fish and Wildlife Service, Interior.

ACTION: Announcement of public informational meetings and public hearings.

SUMMARY: The U.S. Fish and Wildlife Service (Service) announces the locations and times of public informational meetings that have been scheduled to provide information on the proposal to reclassify and delist the gray wolf and establish special regulations for threatened gray wolves. We also are announcing the locations and times of public hearings scheduled to receive verbal public comments on the proposal.

DATES: See SUPPLEMENTARY INFORMATION.

ADDRESSES: See SUPPLEMENTARY INFORMATION.

FOR FURTHER INFORMATION CONTACT: Direct all comments, questions or requests for additional information to us by using the Gray Wolf phone line: 612-713-7337, facsimile: 612-713-5292, electronic mail: graywolfmail@fws.gov, website: http://midwest.fws.gov/wolf, or write to Gray Wolf Questions, U.S. Fish and Wildlife Service, Federal Building, 1 Federal Drive, Fort Snelling, Minnesota 55111-4056.

SUPPLEMENTARY INFORMATION: We will hold public informational meetings at the following locations. All meetings will be held from 1 to 3 p.m. and from 6 to 8 p.m. and will use an open house format, including a slide presentation that will run approximately every half hour.

Denver, Colorado, on August 15, 2000, at the Holiday Inn at Hampden, 7390 W. Hampden Avenue, (Lakewood).

Grand Junction, Colorado, on August 16, 2000, at the Holiday Inn, 755 Horizon Drive.

Salt Lake City, Utah, on August 17, 2000, at the Hilton Salt Lake City Center, 255 South West Temple.

Helena, Montana, on August 31, 2000, at Cavanaugh's Colonial Hotel-Best Western, 2301 Colonial Drive.

Kalispell, Montana, on September 6, 2000, at the West Coast Inn, 20 North Main Street.

Missoula, Montana, on September 7, 2000, at the Best Western Grant Creek Inn, 5280 Grant Creek Road.

Casper, Wyoming, on September 12, 2000, at the Casper Events Center, #1 Events Drive.

Bozeman, Montana, on September 14, 2000, at the Wingate Inn, 2305 Catron Street.

We will hold public hearings at the following locations. All hearings will be held from 1 to 3 p.m. and from 6 to 8 p.m.

Salt Lake City, Utah, on October 12, 2000, at the Hilton Salt Lake City Center, 255 South West Temple.

Helena, Montana, on October 18, 2000, at Cavanaugh's Colonial Inn—Best Western, 2301 Colonial Drive.

Denver, Colorado, on October 26, 2000, at the Holiday Inn at Hampden, 7390 W. Hampden Avenue, (Lakewood).

Background

On July 13, 2000, we published a proposed regulation (65 FR 43450) to reclassify and remove the gray wolf from the list of Endangered and Threatened Wildlife and Plants. The proposal also includes three special regulations for those distinct populations segments of gray wolves that would become classified as threatened. This proposal would affect all the conterminous 48 States except Minnesota. Due to the complexity and wide geographic scope of the proposal, we are scheduling public informational meetings and public hearings at a number of locations. The locations and times of public informational meetings and public hearings in the Midwest, Northwest, and Northeast, were published on July 26, 2000 (65 FR 45956). We will publicize the locations and times of any additional public informational meetings or public hearings in subsequent notices.

The purpose of the public informational meetings is to provide additional opportunities for the public to gain information and ask questions about the proposal. These informational sessions should assist interested parties in preparing substantive comments on the proposal.

The public hearings will be the only method for comments and data to be presented verbally for entry into the public record of this rulemaking and for our consideration during our final decision. Comments and data also can be submitted in writing or electronically, as described in the July 13, 2000, proposal and in the FOR FURTHER INFORMATION CONTACT section above.

Author

The author of this notice is Patricia Worthing, U.S. Fish and Wildlife Service, Denver, Colorado.

Authority: The authority for this notice is the Endangered Species Act of 1973 (16 U.S.C. 1531) et seq.

Dated: August 8, 2000.
Susan E. Baker,
Regional Director, Denver, Colorado.

[FR Doc. 00-20501 Filed 8-11-00; 8:45 am]

BILLING CODE 4310-55-P